DEPARTMENT OF AGRICULTURE

Farm Service Agency

Emergency Conservation Program

AGENCY: Farm Service Agency, USDA.

ACTION: Notice of availability and request for comments.

SUMMARY: U.S. Department of Agriculture, Farm Service Agency (FSA) announces the availability of a Draft Supplemental Environmental Impact Statement (SEIS) for potential changes to the Emergency Conservation Program (ECP). ECP provides emergency funding to farmers and ranchers who have suffered damage to their agricultural lands as a result of a natural disaster. The goals of ECP are to restore farmland (currently, cropland, hayland, and pastureland) to a normal productive state after a natural disaster and provide assistance to producers to carry out emergency water conservation or enhancing measures in times of severe drought. The potential changes (proposed action) under consideration include expanding ECP eligibility to other types of farmland, namely timberland, farmsteads, roads, and feedlots. If FSA implements the changes, FSA would publish a proposed rule to reflect changes to the policy. The draft SEIS is available for public comment. The draft SEIS analyzes the impacts of the proposed action on the nation's environmental resources and economy. FSA analyzed the no action alternative (continuation of current program) to provide an environmental baseline.

DATES: To ensure that the full range of issues and alternatives related to the ECP are addressed, FSA requests comments. We will consider comments that we receive by June 26, 2008. We will consider comments submitted after this date to the extent possible.

ADDRESSES: We invite you to submit comments on this notice. Send written comments on the draft SEIS and requests for copies of the draft SEIS to ECP SEIS, c/o Geo-Marine Incorporated, 2713 Magruder Blvd., Suite D, Hampton, VA 23666-1572; or comment via the Web or request a hardcopy of the Draft SEIS by logging on to http://public.geo-marine.com.

FOR FURTHER INFORMATION CONTACT: Matthew T. Ponish, National Environmental Compliance Manager, USDA FSA CEPD, Stop 0513, 1400 Independence Ave., SW., Washington, DC 20250-0513, (202) 720-6853, or e-mail at: Matthew.Ponish@wdc.usda.gov. More detailed information on ECP may be obtained from FSA's Web site: http://www.fsa.usda.gov/FSA/webapp?area=home&subject=copr&topic=ecp.

Signed in Washington, DC, on May 20, 2008.
Teresa C. Lasseter,
Administrator, Farm Service Agency.

[FR Doc. E8-11774 Filed 5-23-08; 8:45 am]

BILLING CODE 3410-05-P